DEPARTMENT OF THE TREASURY

Office of Thrift Supervision

12 CFR Part 568

[No. 2005-17]

RIN 1550-AB87

Proper Disposal of Consumer Information Under the Fair and Accurate Credit Transactions Act of 2003

AGENCY: Office of Thrift Supervision (OTS), Treasury.

ACTION: Final rule; technical amendment.

SUMMARY: OTS is making a technical amendment to its Security Procedures rule to ensure that an amendment to that rule published December 28, 2004, and scheduled to take effect July 1, 2005, does not supersede an amendment to that rule that was published and took effect March 29, 2005.

DATES: Effective July 1, 2005.

FOR FURTHER INFORMATION CONTACT: Richard Bennett, Counsel, Regulations and Legislation Division, (202) 906-7409.

SUPPLEMENTARY INFORMATION:

I. Introduction

On December 28, 2004, OTS, along with the Office of the Comptroller of the Currency, Board of Governors of the Federal Reserve System, and Federal Deposit Insurance Corporation (the Agencies), published in the Federal Register a final rule entitled “Proper Disposal of Consumer Information Under the Fair and Accurate Credit Transactions Act of 2003” (69 FR 77610), implementing section 216 of the Fair and Accurate Credit Transactions Act of 2003 (FACT Act). That rule included conforming amendments to OTS's Security Procedures rule in § 568.5 of Title 12 of the Code of Federal Regulations. These conforming amendments reflected the change to the title of Appendix B to part 570 of Title 12 from “Interagency Guidelines Establishing Standards for Safety and Soundness” to “Interagency Guidelines Establishing Standards for Safeguarding Customer Information” (Security Guidelines) and the expansion of the legal basis for the Security Guidelines with the implementation of section 216 of the FACT Act. These changes become effective on July 1, 2005.

On March 29, 2005, the Agencies published in the Federal Register (70 FR 15736) interpretive guidance and an OTS final rule entitled “Interagency Guidance on Response Programs for Unauthorized Access to Customer Information and Customer Notice.” OTS codified its interpretive guidance as Supplement A to its Security Guidelines in Appendix B to Part 570. The final rule also made a conforming, technical change to § 568.5, which added a sentence at the end of the section to reference the interpretive guidance in Supplement A.

On July 1, 2005, the December 28 rule text for § 568.5 will supersede the current text that became effective on March 29; however, the sentence that was added by the March 29 final rule will still be applicable and should remain as part of the rule text for § 568.5 beyond June 30, 2005. Therefore, OTS is making a further technical amendment to § 568.5 effective July 1, 2005, to add the sentence from the March 29 final rule that goes at the end of § 568.5 so that it will remain in effect when the December 28 final rule takes effect on July 1.

II. Regulatory Analysis

Administrative Procedure Act; Riegle Community Development and Regulatory Improvement Act of 1994

OTS finds that there is good cause to dispense with prior notice and comment on this final rule and with the 30-day delay of effective date mandated by the Administrative Procedure Act.¹ OTS believes that these procedures are unnecessary and contrary to public interest because the rule merely makes a technical change to an existing regulation. The amendment in the rule is not substantive and will not affect savings associations.

¹ 5 U.S.C. 553.

Section 302 of the Riegle Community Development and Regulatory Improvement Act of 1994 provides that regulations that impose additional reporting, disclosure, or other new requirements may not take effect before the first day of the quarter following publication.² This section does not apply because this final rule imposes no additional requirements and makes only a technical change to an existing regulation.

² Pub. L. 103-325, 12 U.S.C. 4802.

Regulatory Flexibility Act

Pursuant to section 605(b) of the Regulatory Flexibility Act,³ the OTS Acting Director certifies that this technical amendment will not have a significant economic impact on a substantial number of small entities.

³ Pub. L. 96-354, 5 U.S.C. 601.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects in 12 CFR Part 568

Consumer protection, Privacy, Reporting and recordkeeping requirements, Savings associations, Security measures.

For the reasons set forth in the preamble, OTS amends part 568 of title 12 of chapter V of the Code of Federal Regulations as follows:

PART 568—SECURITY PROCEDURES

1. The authority citation for part 568 continues to read as follows:

Authority: 12 U.S.C. 1462a, 1463, 1464, 1467a, 1828, 1831p-1, 1881-1884; 15 U.S.C. 1681s and 1681w; 15 U.S.C. 6801 and 6805(b)(1).

2. Revise § 568.5 to read as follows:

§ 568.5 Protection of customer information.

Savings associations and their subsidiaries (except brokers, dealers, persons providing insurance, investment companies, and investment advisers) must comply with the Interagency Guidelines Establishing Information Security Standards set forth in appendix B to part 570 of this chapter. Supplement A to appendix B to part 570 of this chapter provides interpretive guidance.

Dated: May 25, 2005.
By the Office of Thrift Supervision.
Richard M. Riccobono,
Acting Director.

[FR Doc. 05-10931 Filed 6-1-05; 8:45 am]

BILLING CODE 6720-01-P